INTERNATIONAL TRADE COMMISSION

[Investigation No. 337-TA-535]

In the Matter of Certain Network Communications Systems for Optical Networks and Components Thereof; Notice of a Commission Determination Not To Review an Initial Determination Granting a Motion To Withdraw the Complaint and Terminate the Investigation; Termination of Investigation

AGENCY: U.S. International Trade Commission.

ACTION: Notice.

SUMMARY: Notice is hereby given that the U.S. International Trade Commission has determined not to review the presiding administrative law judge's (“ALJ's”) initial determination (“ID”) granting a motion to withdraw the complaint and terminate the above-captioned investigation.

FOR FURTHER INFORMATION CONTACT: Timothy P. Monaghan, Esq., Office of the General Counsel, U.S. International Trade Commission, 500 E Street, SW., Washington, DC 20436, telephone 202-205-3152. Copies of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this patent-based section 337 investigation on March 30, 2005, based on a complaint filed by Ciena Corporation, of Linthicum, Maryland (“Ciena “). 70 FR 16304. The respondents named in the notice of investigation are Nortel Networks Corporation and Nortel Networks Limited, of Brampton, Ontario, Canada; Nortel Networks, Inc., of Richardson, Texas; and Flextronics International Ltd., and Flextronic Telecom Systems Ltd., of Port Louis, Mauritius. The complaint alleged that respondents violated section 337 by importing into the United States, selling for importation, and/or selling within the United States after importation certain network communications systems for optical networks and components thereof by reason of infringement of certain claims of U.S. Patent Nos. 5,978,115 and 6,618,176.

On June 7, 2005, the presiding ALJ issued the subject ID, Order No. 6, granting a motion filed by Ciena pursuant to rule Commission rule 210.21(a) to terminate the investigation on the basis of withdrawal of the complaint. No party filed a petition for review of the subject ID.

The authority for the Commission's determination is contained in section 337 of the Tariff Act of 1930, as amended (19 U.S.C. 1337), and in section 210.42 of the Commission's Rules of Practice and Procedure (19 CFR 210.42).

By order of the Commission.
Issued: June 23, 2005.
Marilyn R. Abbott,
Secretary to the Commission.

[FR Doc. 05-12847 Filed 6-28-05; 8:45 am]

BILLING CODE 7020-02-P